JOINT BOARD FOR THE ENROLLMENT OF ACTUARIES

Meeting of the Advisory Committee

AGENCY: Joint Board for the Enrollment of Actuaries.

ACTION: Notice of Federal Advisory Committee meeting; amended.

SUMMARY: This notice amends the location of the partially closed meeting of the Advisory Committee on Actuarial Examinations previously announced in the Federal Register of December 16, 2024.

DATES: January 6, 2025, from 9:00 a.m. to 5:00 p.m., and January 7, 2025, from 8:30 a.m. to 4:00 p.m.

FOR FURTHER INFORMATION CONTACT: Elizabeth Van Osten, Designated Federal Officer, Advisory Committee on Actuarial Examinations, at (202) 312-3648 or Elizabeth.jvanosten@irs.gov.

SUPPLEMENTARY INFORMATION: As published in the Federal Register of December 16, 2024 (89 FR 101626), the meeting was to be held at the Internal Revenue Service, 1111 Constitution Avenue NW, Washington, DC 20224. However, due to a weather-related building closure precluding an in-person meeting, the meeting was held by teleconference instead. There were no other changes to the meeting. Because the circumstances necessitating the change to the venue of the meeting were beyond the control of the Joint Board for the Enrollment of Actuaries, it was unable to provide public notification about the changes, as required by 41 CFR 102-3.150(a).

Dated: February 7, 2025.
Thomas V. Curtin, Jr.,
Executive Director, Joint Board for the Enrollment of Actuaries.

[FR Doc. 2025-02509 Filed 2-11-25; 8:45 am]

BILLING CODE 4830-01-P